ENVIRONMENTAL PROTECTION AGENCY

[FRL-8933-1]

Protection of Stratospheric Ozone: Extension to Deadline for Critical Use Exemption Applications for 2012

AGENCY: Environmental Protection Agency (EPA).

ACTION: Extension to Submittal Date for Applications. On May 20, 2009, the Agency published a notice requesting applications for the Critical Use Exemption from the phaseout of methyl bromide for 2012 (see 74 FR 23705).

On July 1, 2009, EPA received a letter from methyl bromide stakeholders requesting an extension to the July 20, 2009 deadline for submitting Critical Use Exemption applications. The letter requested a deadline of August 24, 2009.

The letter explained that additional time is needed by the stakeholders to complete their Critical Use Exemption applications, citing recent industry involvement with associated international meetings and national regulatory decisions as impeding their ability to devote adequate time to the application process.

EPA believes that the requested extension is reasonable, and is granting the extension to all applicants. Critical Use Exemption Applications for 2012 are now due to the Agency on or before August 24, 2009. A copy of the July 1, 2009 letter to the Agency is available in the EPA Docket.

DATES: Applications for the 2012 Critical Use Exemption must be postmarked on or before August 24, 2009.

ADDRESSES: Applications for the methyl bromide Critical Use Exemption should be submitted in duplicate (two copies) by mail to: U.S. Environmental Protection Agency, Office of Air and Radiation, Stratospheric Protection Division, Attention Methyl Bromide Team, Mail Code 6205J, 1200 Pennsylvania Ave, NW., Washington, DC 20460 or by courier delivery (other than U.S. Post Office overnight) to: U.S. Environmental Protection Agency, Office of Air and Radiation, Stratospheric Protection Division, Attention Methyl Bromide Review Team, 1310 L St. NW., Room 1040, Washington DC 20005. EPA also encourages users to submit their applications electronically to Robert Burchard, Stratospheric Protection Division, at: burchard.robert@epa.gov. If the application is submitted electronically, applicants must fax a signed copy of Worksheet 1 to Robert Burchard at 202-343-2338 by the application deadline.

FOR FURTHER INFORMATION CONTACT:

General Information: U.S. EPA Stratospheric Ozone Information Hotline, 1-800-296-1996; also http://www.epa.gov/ozone/mbr.

Technical Information: Bill Chism, U.S. Environmental Protection Agency, Office of Pesticide Programs (7503P), 1200 Pennsylvania Ave., NW., Washington, DC 20460, 703-308-8136. E-mail: chism.bill@epa.gov.

Economic Information: Elisa Rim, U.S. Environmental Protection Agency, Office of Pesticide Programs (7503P), 1200 Pennsylvania Ave., NW., Washington, DC 20460, 703-308-8123. E-mail: rim.elisa@epa.gov.

Regulatory Information: Robert Burchard, U.S. Environmental Protection Agency, Stratospheric Protection Division (6205J), 1200 Pennsylvania Ave., NW., Washington, DC 20460, 202-343-9126. E-mail: burchard.robert@epa.gov.

EPA Docket: The docket can be accessed at the http://www.regulations.gov site. To obtain copies of materials in hard copy, please e-mail the EPA Docket Center: a-and-r-docket@epa.gov. The Docket ID No. for Critical Use Exemption Applications for 2012 is: EPA-HQ-OAR-2009-0277.

Dated: July 15, 2009.
Brian J. McLean,
Director, Office of Atmospheric Programs.

[FR Doc. E9-17275 Filed 7-20-09; 8:45 am]

BILLING CODE 6560-50-P